UNITED STATES INSTITUTE OF PEACE

Announcement of the Fall 2005 Solicited Grant Competition Grant Program

AGENCY: United States Institute of Peace.

ACTION: Notice

SUMMARY: The Agency Announces its Upcoming Fall 2005 Solicited Grant Competition. The Solicited Grant competition is restricted to projects that fit specific themes and topics identified in advance by the Institute of Peace.

The themes and topics for the Fall 2005 Solicited competition are:

• Solicitation A: Rule of Law in African Countries Emerging from Violent Conflict.

• Solicitation B: Education and Islam.

Deadline: October 1, 2005. Application material available on request and at http://www.usip.org/grants.

DATES: Receipt of Application: October 1, 2005. Notification Date: March 31, 2006.

ADDRESSES: For more information and an application package: United States Institute of Peace, Grant Program—Solicited Grants, 1200 17th Street, NW., Suite 200, Washington, DC 20036-3011, (202) 429-3842 (phone), (202) 833-1018 (fax), (202) 457-1719 (TTY), E-mail: grants@usip.org.

FOR FURTHER INFORMATION CONTACT: The Grant Program, phone (202) 429-3842, e-mail: grants@usip.org.

Dated: June 10, 2005.
Erin Singshinsuk,
Vice President for Management.

[FR Doc. 05-11809 Filed 6-14-05; 8:45 am]

BILLING CODE 6820-AR-M